DEPARTMENT OF EDUCATION

Personal Authentication Service (PAS) for FSA ID; Agency Contact Information, Total Estimated Number of Annual Responses, Total Estimated Number of Annual Burden Hours and the Abstract; Correction

AGENCY: Department of Education.

ACTION: Correction Notice.

SUMMARY: On February 23, 2015 the U.S. Department of Education published a 30-day comment period notice in the Federal Register Pages 9447, Column 3; Page 9448, Column 1 and 2 seeking public comment for an information collection entitled, “Personal Authentication Service (PAS) for FSA ID”. ED is requesting a correction to the agency contact information, total estimated number of annual responses, total estimated number of annual burden hours and the abstract. The For Further Information Contact section should read as: For specific questions related to collection activities, please contact Beth Grebeldinger, 202-377-4018. The total estimated number of annual responses should read as 55,300,000. The total estimated number of annual burden hours should read as 7,370,000. The abstract should read as Federal Student Aid (FSA) is replacing the current PIN system with the Personal Authentication Service (PAS) which will employ an FSA ID, a standard user name and password solution. In order to create an FSA ID to gain access to certain FSA systems (FAFSA on the Web, NSLDS, StudentLoans.gov, etc.) a user must register on-line for an FSA ID account. The FSA ID will allow the customer to have a single identity, even if there is a name change or change to other personally identifiable information. The information collected to create the FSA ID enables electronic authentication and authorization of users for FSA web-based applications and information and protects users from unauthorized access to user accounts on all protected FSA sites.

The Acting Director, Information Collection Clearance Division, Privacy, Information and Records Management Services, Office of Management, hereby issues a correction notice as required by the Paperwork Reduction Act of 1995.

Dated: February 23, 2015.
Stephanie Valentine,
Acting Director, Information Collection Clearance Division, Privacy, Information and Records Management Services, Office of Management.

[FR Doc. 2015-04037 Filed 2-25-15; 8:45 am]

BILLING CODE;P